DEPARTMENT OF HEALTH AND HUMAN SERVICES

Health Resources and Services Administration

Agency Information Collection Activities; Proposed Collection; Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received within 60 days of this notice.

ADDRESSES: Submit your comments to paperwork@hrsa.gov or mail the HRSA Information Collection Clearance Officer, Room 10-29, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Understanding and Monitoring Funding Streams in Ryan White Clinics.

OMB No. 0915-xxxx—New.

Abstract: The HRSA's HIV/AIDS Bureau (HAB) administers the Ryan White HIV/AIDS Program (RWHAP) authorized under Title XXVI of the Public Health Service Act as amended by the Ryan White HIV/AIDS Treatment Extension Act of 2009. Established in 1990, the RWHAP is a federally funded program designed to provide HIV-related medical care and treatment as well as support service for individuals and families affected by the disease who are uninsured or underinsured. The Program consists of several “Parts,” corresponding to sections of the statute, through which funding is provided to states, cities, providers, and other organizations. Part A provides emergency relief for areas with substantial need for HIV/AIDS care and support services that are most severely affected by the HIV/AIDS epidemic, including eligible metropolitan areas (EMAs) and transitional grant areas (TGAs). Part B provides grants to states and U.S. territories to improve the quality, availability, and organization of HIV/AIDS health care and support services. Part B grants include a base grant; the AIDS Drug Assistance Program (ADAP) award; ADAP Supplemental Drug Treatment Program funds; and supplemental grants to states with “emerging communities,” defined as jurisdictions reporting between 500 and 999 cumulative AIDS cases over the most recent 5 years. The Part C Early Intervention Services (EIS) component of the Ryan White HIV/AIDS Program funds comprehensive primary health care in outpatient settings for people living with HIV disease. Part D grantees provide outpatient or ambulatory family-centered primary medical care for women, infants, children, and youth with HIV/AIDS.

In 2010, the Patient Protection and Affordable Care Act (ACA) was enacted into law. The ACA is expansive and will likely impact the RWHAP. Some of the reforms have already been implemented (including the creation of Pre-Existing Insurance Plans) and the barring of insurance carriers from denying coverage to children with pre-existing conditions such as HIV/AIDS, cancelling coverage for adults with health conditions because of unintentional mistakes on the application, and imposing lifetime dollar caps on essential health benefits. Effective January 2014, states will have the option to expand Medicaid to individuals younger than 65 years of age with incomes up to 133 percent of the federal poverty level (FPL). On October 1, 2013, insurance marketplaces (exchanges) from which individuals can purchase health insurance will begin open enrollment, with coverage to begin as early as January 1, 2014. Individuals with incomes from up to 400 percent FPL may be eligible for tax credits to reduce premium costs. Individuals with lower incomes may also be eligible for reductions in cost-sharing.

The proposed study will provide HAB and policymakers with a better understanding of how the RWHAP currently provides primary outpatient health care and essential support services to both uninsured and underinsured clients. It will identify what types of core medical services and subservices, and support services are currently not covered or not fully covered by Medicaid, Medicare, and private insurance, which are needed to provide high quality HIV/AIDS care. The study also will provide information on how grantees monitor patient healthcare coverage (e.g., payer source, type of insurance) and the cost of care. Together, this information will help HAB understand the abilities of Part C and Part D grantees to support and track expanded health insurance enrollment for their clients and to adapt to the changing funding landscape. The study will also collect information on what processes are used and what types of data are stored within their data information systems. Information about data information systems will be used to support the development of a technical assistance tracker for RWHAP grantees to monitor and assess changes in the mix of funding sources used to pay for primary health care and essential support services to PLWHA as the ACA is fully implemented.

Lastly, the study will gather information regarding Part C and Part D grantees' level of participation in state-sponsored initiatives for the development of health homes, their relationship with managed care organizations, and their status regarding recognition as a Patient Centered Medical Home. This information will provide some basic information regarding grantees' abilities to continue to service PLWHA as the ACA is implemented differently among the states.

The Ryan White Funding Streams Survey (Survey) will be used to collect this information. The survey will collect both qualitative and quantitative data and will be administered online to program directors from a representative sample of Part C and Part D grantees. The Survey contains 32 questions that capture information about the different funding streams used for the provision of services to PLWHA; grantees' abilities to track health insurance, funding sources, and costs of care; and their relationship with managed care organizations. The data provided through the survey will not contain individual or personally identifiable information. This information will inform HAB in the development of future RWHAP policy. It will also assist HAB in the final development of the technical assistance tracking tool for grantees.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized burden hours:

Form | Number of respondents | Number of responses per respondent | Total responses | Average burden per response (in hours) | Total burden hours
Survey | 120 | 1 | 120 | 4.7 | 564

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Dated: September 26, 2013.
Bahar Niakan,
Director, Division of Policy and Information Coordination.

[FR Doc. 2013-24251 Filed 10-2-13; 8:45 am]

BILLING CODE 4165-15-P